COMMODITY FUTURES TRADING COMMISSION

17 CFR Part 1

General Regulations Under the Commodity Exchange Act

CFR Correction

In Title 17 of the Code of Federal Regulations, Parts 1 to 40, revised as of April 1, 2015, on page 12, in § 1.3, remove the second paragraph (aa)(3)(ii).

[FR Doc. 2016-05576 Filed 3-10-16; 8:45 am]

BILLING CODE 1505-01-D